GENERAL SERVICES ADMINISTRATION

48 CFR Parts 501, 549, and 552

[GSAR Amendment 2009-05; GSAR Case 2008-G515 (Change 31); Docket 2008-0007; Sequence 5]

RIN 3090-AI62

General Services Administration Acquisition Regulation; GSAR Case 2008-G515; Rewrite of GSAR Part 549, Termination of Contracts

AGENCIES: General Services Administration (GSA), Office of the Chief Acquisition Officer.

ACTION: Final rule.

SUMMARY: The General Services Administration (GSA) is amending the General Services Administration Acquisition Regulation (GSAR) to revise the language that provides requirements for termination of contracts.

DATES: Effective Date: June 8, 2009.

FOR FURTHER INFORMATION CONTACT: For clarification of content, contact Ms. Jeritta Parnell at (202) 501-4082. For information pertaining to the status or publication schedules, contact the Regulatory Secretariat (VPR), Room 4041, 1800 F Street, NW, Washington, DC 20405, (202) 501-4755. Please cite GSAR case 2008-G515.

SUPPLEMENTARY INFORMATION:

A. Background

The GSA published a proposed rule with request for comments in the Federal Register at 73 FR 47123 on August 13, 2008. No comments were received in response to the proposed rule. This final rule revises GSAR Part 549, Termination of Contracts, by deleting the prescriptive language in GSAR 549.502, Termination for convenience of the Government, for two outdated clauses. The clause at GSAR 552.249-70, Termination for Convenience of the Government (Fixed-Price)(Short Form), and the clause at 552.249-71, Submission of Termination Liability Schedule, are being deleted. These are two GSA-unique clauses for acquisition and maintenance of telephone systems funded through the Information Technology (IT) Fund. This fund no longer exists. These clauses are obsolete.

This is not a significant regulatory action and, therefore, was not subject to review under Section 6(b) of Executive Order 12866, Regulatory Planning and Review, dated September 30, 1993. This rule is not a major rule under 5 U.S.C. 804.

B. Regulatory Flexibility Act

The General Services Administration certifies that this final rule will not have a significant economic impact on a substantial number of small entities within the meaning of the Regulatory Flexibility Act, 5 U.S.C. 601, et seq., because the revisions are not considered substantive. The revisions delete obsolete coverage.

C. Paperwork Reduction Act

The Paperwork Reduction Act does not apply because the changes to the GSAR do not impose recordkeeping or information collection requirements, or otherwise collect information from offerors, contractors, or members of the public that require approval of the Office of Management and Budget under 44 U.S.C. Chapter 35, et seq.

List of Subjects in 48 CFR Parts 501, 549, and 552

Government procurement.

Dated: April 28, 2009.
Rodney P. Lantier,
Acting Senior Procurement Executive, Office of the Chief Acquisition Officer, General Services Administration.

Therefore, GSA amends 48 CFR parts 501, 549, and 552 as set forth below:

PART 501—GENERAL SERVICES ADMINISTRATION ACQUISITION REGULATION SYSTEM

1. The authority citation for 48 CFR parts 501 and 549 is revised to read as follows:

Authority: 40 U.S.C. 121(c).

501.106 [Amended]

2. Amend section 501.106, in the table, by removing the GSAR reference number “549.502(b)” and its corresponding OMB Control Number “3090-0027”; and the GSAR reference number “552.249-71”, and its corresponding OMB Control Number 3090-0227.

PART 549—TERMINATION OF CONTRACTS

549.5 [Removed and Reserved]

3. Remove and reserve Subpart 549.5, which consists of section 549.502.

PART 552—SOLICITATION PROVISIONS AND CONTRACT CLAUSES

4. The authority citation for 48 CFR part 552 continues to read as follows:

Authority: 40 U.S.C. 121(c).

552.249-70 [Removed]

6. Remove section 552.249-70.

552.249-71 [Removed]

7. Remove section 552.249-71.

[FR Doc. E9-10532 Filed 5-6-09; 8:45 am]

BILLING CODE 6820-EP-S